DEPARTMENT OF ENERGY

Federal Energy Regulatory Commission

Notice of FERC Staff Attendance at Southwest Power Pool Independent Coordinator of Transmission (ICT) Stakeholders Policy Committee Meeting

December 3, 2007.

The Federal Energy Regulatory Commission hereby gives notice that members of its staff may attend the meeting noted below. Their attendance is part of the Commission's ongoing outreach efforts.

ICT Stakeholders Policy Committee Meeting

December 11, 2007 (9 a.m.-3 p.m. CST), Crowne Plaza Houston North Greenspoint, 425 N. Sam Houston Pkwy East, Houston, TX 77060, 281-445-9000.

The discussions may address matters at issue in the following proceedings:

Docket No. EL07-52 | Louisiana Public Service Commission v. Entergy Services, Inc.
Docket No. ER08-160 | Entergy Services, Inc.
Docket No. ER08-161 | Entergy Services, Inc.
Docket No. ER08-162 | Entergy Services, Inc.
Docket No. ER07-1385 | Entergy Services, Inc.
Docket No. ER08-31 | Entergy Services, Inc.
Docket No. OA07-32 | Entergy Services, Inc.
Docket No. ER05-1065 | Entergy Services, Inc.
Docket No. EL06-76 | Arkansas Public Service Commission v. Entergy Services, Inc.
Docket No. EL06-78 | Louisiana Public Service Commission v. Entergy Services, Inc.
Docket No. ER07-1252 | Entergy Services, Inc.
Docket No. EL00-66 | Louisiana Public Service Commission v. Entergy.
Docket No. EL03-230 | Exxon Mobil v. Entergy.
Docket No. EL05-15 | Arkansas Electric Cooperative, Corp. v. Entergy Arkansas, Inc.
Docket No. ER06-1555 | Entergy Services, Inc.
Docket No. ER05-1358 | KGen Hinds LLC.
Docket No. ER05-1394 | KGen Hot Spring LLC.
Docket No. ER05-1419 | Hot Spring Power Company, LP.
Docket No. ER07-985 | Entergy Services, Inc.
Docket No. ER03-583 | Entergy Services, Inc.
Docket No. ER03-681 | Entergy Services, Inc.
Docket No. ER03-682 | Entergy Services, Inc.
Docket No. ER03-744 | Entergy Services, Inc.
Docket No. ER07-956 | Entergy Services, Inc.
Docket No. ER07-682 | Entergy Services, Inc.

These meetings are open to the public.

For more information, contact Amy Demetry, Office of Energy Market Regulation, Federal Energy Regulatory Commission at (202) 502-6090 or Amy.Demetry@ferc.gov.

Kimberly D. Bose,
Secretary.

[FR Doc. E7-23766 Filed 12-6-07; 8:45 am]

BILLING CODE 6717-01-P